DEPARTMENT OF THE INTERIOR

Bureau of Land Management

[LLAK9100000.L141000000.XX0000]

Second Call for Nominations to the Alaska Resource Advisory Council

AGENCY: Bureau of Land Management, Interior.

ACTION: Notice.

SUMMARY: The purpose of this notice is to reopen the request for public nominations for the Bureau of Land Management (BLM) Alaska Resource Advisory Council (RAC). The RAC provides advice and recommendations to the BLM regarding land management issues. BLM Alaska will accept public nominations for 45 days after the publication of this notice.

DATES: All nominations must be received no later than October 11, 2016.

ADDRESSES: June Lowery, Alaska State Office, BLM, 222 West 7th Avenue, #13, Anchorage, AK 99513, (907) 271-3130.

FOR FURTHER INFORMATION CONTACT: June Lowery, BLM Alaska, 222 West 7th Avenue, # 13, Anchorage, AK 99513, (907) 271-3130.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784 and include the following three membership categories:

Category One—Holders of Federal grazing permits or leases; representatives of energy and mineral development; representatives of the commercial timber industry; representatives of interests associated with transportation or rights-of-way; or representatives of developed outdoor recreation, off-highway vehicle use, and commercial recreation;

Category Two—Representatives of nationally or regionally recognized environmental organizations; archaeological and historic organizations; dispersed recreation activities; or nationally or regionally recognized wild horse and burro organizations; and

Category Three—Persons who hold State, county, or local elected office; employees of a State agency responsible for management of natural resources, land or water; representatives of Indian tribes within or adjacent to the area for which the council is organized; persons who are employed as academicians in natural resource management or natural sciences; or representatives of the affected public-at-large.

Those who submitted a nomination in response to the first call for nominations, published in the Federal Register on March 18, 2016, do not need to resubmit. All nominations from the first and second calls will be considered together during the review process. Individuals may nominate themselves or others. Nominees must be residents of Alaska. The BLM will evaluate nominees based on their education, training, experience, and knowledge of the geographical area of the RAC. Nominees should demonstrate a commitment to collaborative resource decision-making. Individuals who are Federally registered lobbyists are ineligible to serve on all FACA and non-FACA boards, committees, or councils in an individual capacity. The term “individual capacity” refers to individuals who are appointed to exercise their own individual best judgment on behalf of the government, such as when they are designated Special Government Employees, rather than being appointed to represent a particular interest. The following must accompany all nominations:

—Letters of reference from represented interests or organizations;

—A completed Resource Advisory Council application; and

—Any other information that addresses the nominee's qualifications.

Simultaneous with this notice, the BLM Alaska State Office will issue a press release providing additional information for submitting nominations, with specifics about the number and categories of member positions available for the RAC.

Nominations and completed applications for the RAC should be sent to the office listed under the above ADDRESSES section.

Authority: 43 CFR 1784.4-1

Bud C. Cribley,
State Director.

[FR Doc. 2016-20509 Filed 8-25-16; 8:45 am]

BILLING CODE 4310-84-P